DEPARTMENT OF ENERGY

Federal Energy Regulatory Commission

[Docket No. RP96-200-130]

CenterPoint Energy Gas Transmission Company; Notice of Negotiated Rate

September 14, 2004.

Take notice that on September 9, 2004, CenterPoint Energy Gas Transmission Company (CEGT) tendered for filing the Tariff sheet listed below to become part of its FERC Gas Tariff, Sixth Revised Volume No. 1, which contains agreements between CEGT and Hot Spring Power Company, L.L.C. with respect to a substitute index price for a negotiated rate contract, due to Platt's discontinuation of publication of the Oklahoma West index price in its Gas Daily price surveys.

First Revised Sheet No. 880

Any person desiring to intervene or to protest this filing must file in accordance with Rules 211 and 214 of the Commission's Rules of Practice and Procedures (18 CFR 385.211 and 385.214). Protests will be considered by the Commission in determining the appropriate action to be taken, but will not serve to make protestants parties to the proceeding. Any person wishing to become a party must file a notice of intervention or motion to intervene, as appropriate. Such notices, motions, or protests must be filed on or before the date as indicated below. Anyone filing an intervention or protest must serve a copy of that document on the Applicant. Anyone filing an intervention or protest on or before the intervention or protest date need not serve motions to intervene or protests on persons other than the Applicant.

The Commission encourages electronic submission of protests and interventions in lieu of paper using the “eFiling” link at http://www.ferc.gov. Persons unable to file electronically should submit original and 14 copies of the protest or intervention to the Federal Energy Regulatory Commission, 888 First Street, NE., Washington, DC 20426.

Copies of this filing are on file with the Commission and are available for public inspection in the Public Reference Room. This filing is also accessable on-line at http://www.ferc.gov, using the “eLibrary” link. There is an “eSubscription” link on the Web site that enables subscribers to receive e-mail notification when a document is added to a subscribed docket(s). For assistance with any FERC Online service, please e-mail FERCOnlineSupport@ferc.gov, or call (866) 208-03676 (toll free). For TTY, call (202) 502-8659.

Linda Mitry,
Acting Secretary.

[FR Doc. E4-2249 Filed 9-17-04; 8:45 am]

BILLING CODE 6717-01-P